FEDERAL COMMUNICATIONS COMMISSION

Sunshine Act Meeting; Deletion of Agenda Items from May 3, 2006, Open Meeting

May 3, 2006.

The following items have been deleted from the list of Agenda items scheduled for consideration at the Wednesday, May 3, 2006, Open Meeting and previously listed in the Commission's Notice of Wednesday, April 26, 2006.

Item No. | Bureau | Subject
4 | Wireline Competition | Title: Request for Review of the Decision of the Universal Service Administrator by Bishop Perry Middle School, New Orleans, LA et al., Schools and Libraries Universal Service Support Mechanism (WC Docket No. 02-6).
|  | Summary: The Commission will consider an Order addressing requests for review of decisions of the Universal Service Administrator with respect to the Schools and Libraries Universal Service support mechanism.
5 | Wireline Competition | Title: Request for Review of the Decision of the Universal Service Administrator by Lake Grove at Maple Valley, Inc., Lake Grove Schools, Wendall, MA, et al., Schools and Libraries Universal Service Support Mechanism (WC Docket No. 02-6).
|  | Summary: The Commission will consider an Order addressing requests for review of decisions of the Universal Service Administrator with respect to the Schools and Libraries Universal Service support mechanism.

Federal Communications Commission
Marlene H. Dortch,
Secretary.

[FR Doc. 06-4331 Filed 5-4-06; 2:41 pm]

BILLING CODE 6712-01-P